COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds service(s) to the Procurement List that will be furnished by nonprofit agencies employing persons who are blind or have other severe disabilities, and deletes product(s) and service(s) from the Procurement List previously furnished by such agencies.

DATES: Date added to and deleted from the Procurement List: May 30, 2021.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 11/27/2020 and 3/5/2021, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Contractor Operated Civil Engineer Supply Store

Mandatory for: US Air Force, Whiteman AFB, MO

Designated Source of Supply: South Texas Lighthouse for the Blind, Corpus Christi, TX

Contracting Activity: DEPT OF THE AIR FORCE, FA4625 509 CONS CC

One (1) public comment was received in response to the Federal Register notice of November 27, 2020 (85 FR 229) regarding the proposed addition to the Procurement List of the requirement to operate a Contractor Operated Civil Engineer Supply Store (COCESS) for the U.S. Air Force at Whiteman AFB, MO. The commenter stated that the proposed service was not suitable for performance under the AbilityOne Program. The commenter listed tasks that are typically performed by COCESS employees, as well as unusual tasks that may be required, which the commenter says cannot be performed by people who are blind. The commenter stated that the Commission's suitability criteria are not met, because there is potential impact the commenter's firm if the Commission decides to add additional COCESS operations to the Procurement List.

The Commission has carefully considered each of its regulatory suitability criteria and found that they are established through the factual documentation supporting this proposed addition. There is employment potential for individuals who are blind or visually impaired. There is a qualified and capable nonprofit agency to perform the work. The Commission reviewed the specific Statement of Work for this requirement and found it to be very similar to retail operations already performed by the proposed nonprofit agency on similar military installations. The responsible Contracting Activity performed a capability survey and documented its finding that the proposed nonprofit agency is capable of performing this service.

In accordance with the Commission's regulation at 41 CFR 51-2.4(e), the commenter is not considered to be impacted by the proposed action because the commenter is not the current contractor for the requirement. In summary, all regulatory criteria are met and are documented in the administrative record to support the Commission's decision that this work is suitable and is approved for addition to the Procurement List.

Service Type: Administrative and HR Support Service

Mandatory for: Military Sealift Command (MSC), MSC-Norfolk, Norfolk, VA

Designated Source of Supply: VersAbility Resources, Inc., Hampton, VA

Contracting Activity: DEPT OF THE NAVY, MSC NORFOLK

The Committee finds good cause to dispense with the 30-day delay in the effective date normally required by the Administrative Procedure Act. See 5 U.S.C. 553(d). This addition to the Committee's Procurement List is effectuated because of the expiration of the Department of the Navy, MSC Norfolk, Administrative and HR Support Service, contract. The Federal customer contacted, and has worked diligently with the AbilityOne Program to fulfill this service need under the AbilityOne Program. To avoid performance disruption, and the possibility that the Department of the Navy, MSC Norfolk will refer its business elsewhere, this addition must be effective on May 16, 2021, ensuring timely execution for a May 17, 2021, start date while still allowing 16 days for comment. The Committee also published a notice of proposed Procurement List addition in the Federal Register on March 5, 2021, and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Deletions

On 3/26/2021, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): MR 858—Extra Life

Designated Source of Supply: Industries of the Blind, Inc., Greensboro, NC

Contracting Activity: Military Resale-Defense Commissary Agency,

NSN(s)—Product Name(s):

MR 1172—Sweeper Set, Wet and Dry

MR 1174—Refill, Sweeper Set, Dry Cloths, 30 Count

Designated Source of Supply: LC Industries, Inc., Durham, NC

Contracting Activity: Military Resale-Defense Commissary Agency

NSN(s)—Product Name(s):

MR 804—Grill Basket

MR 889—Ergo Garlic Press

Designated Source of Supply: Cincinnati Association for the Blind, Cincinnati, OH

Contracting Activity: Military Resale-Defense Commissary Agency

Service(s)

Service Type: Transcription Services

Mandatory for: Equal Employment Office: Federal Bureau of Prisons, Washington, DC

Designated Source of Supply: Lighthouse for the Blind of Houston, Houston, TX

Contracting Activity: FEDERAL PRISON SYSTEM, CENTRAL OFFICE

Service Type: Preservation and Packaging

Mandatory for: New Cumberland Army Depot, New Cumberland, PA

Designated Source of Supply: ForSight Vision, York, PA

Contracting Activity: DEFENSE LOGISTICS AGENCY, DLA SUPPORT SERVICES—DSS

Michael R. Jurkowski,
Deputy Director, Business & PL Operations.

[FR Doc. 2021-09088 Filed 4-29-21; 8:45 am]

BILLING CODE 6353-01-P